DEPARTMENT OF ENERGY

Federal Energy Regulatory Commission

[Docket No. RP01-343-001]

Granite State Gas Transmission; Notice of Compliance Filing

May 15, 2001.

Take notice that on May 9, 2001, Granite State Gas Transmission (Granite State) tendered for filing to become part of its FERC Gas Tariff, Second Revised Volume No. 1, the following revised tariff sheets, with a proposed effective date of May 1, 2001:

Fourth Revised Sheet No. 202

On March 30, 2001, Granite State filed tariff sheets in Docket No. RP01-343-000 to conform its Tariff to Version 1.4 of the consensus industry standards, promulgated by the Gas Industry Standards Board (GISB). The Commission directed that pipelines implement these standards by filing revised tariff sheets not less than 30 days prior to the May 1, 2001 implementation date required by Order No. 587-M. By order dated April 26, 2001, the Commission accepted the filed tariff sheets with one exception and required Granite State to revise its Tariff and incorporate the changes within 15 days of the date of the Order. See Standards for Business Practices of Interstate Natural Gas Pipelines, 95 FERC 61,127 (April 26, 2001). Specifically, Granite State files herein Fourth Revised Sheet No. 202 to correct the pagination of Sheet No. 202 as directed by the Commission in its April 26 Order.

Granite State states that copies of its filing have been mailed to all firm customers, interruptible customers and affected state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12656 Filed 5-18-01; 8:45 am]

BILLING CODE 6717-01-M